DEPARTMENT OF TRANSPORTATION

Federal Aviation Administration

14 CFR Part 39

[Docket No. FAA-2015-0242; Directorate Identifier 2014-NM-100-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 B4-603, B4-605R, B4-620, B4-622, B4-622R airplanes; all Airbus Model A300 C4-605R Variant F airplanes; and certain Airbus Model A300 F4-605R airplanes. This proposed AD was prompted by the manufacturer's review of all repairs accomplished using the structural repair manual. This review was done using revised fatigue and damage tolerance calculations. This proposed AD would require an inspection of the surrounding panels of the left and right forward passenger doors, and corrective actions if necessary. We are proposing this AD to detect and correct previous incomplete or inadequate repairs to the surrounding panels of the left and right forward passenger doors and the fail-safe ring, which could negatively affect the structural integrity of the airplane.

DATES: We must receive comments on this proposed AD by April 6, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0242; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2015-0242; Directorate Identifier 2014-NM-100-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0101, dated May 2, 2014 (referred to after this as the Mandatory Continuing Airworthiness Information, or “the MCAI”), to correct an unsafe condition for all Airbus Model A300 B4-603, B4-605R, B4-620, B4-622, B4-622R airplanes; all Airbus Model A300 C4-605R Variant F airplanes; and certain Airbus Model A300 F4-605R airplanes. The MCAI states:

In the frame of the Ageing Airplane Safety Rule (AASR), all existing Structural Repair Manual (SRM) repairs were reviewed.

This analysis, which consisted in new Fatigue and Damage Tolerance calculations, revealed that some repairs in the area surrounding the forward passenger/crew door and the fail safe ring are no longer adequate.

These repairs, if not reworked, could affect the structural integrity of the aeroplane.

To address this potential unsafe condition, Airbus issued Service Bulletin (SB) A300-53-6173 (later revised), to provide instructions for the inspection of repairs on the left-hand (LH) and right-hand (RH) forward door surrounding panels.

For the reasons described above, and further to the AASR implementation, this [EASA] AD requires a one-time inspection of the forward door surrounding panels to identify SRM repairs in these areas and, depending on findings, accomplishment of applicable corrective action(s).

Corrective actions include contacting the manufacturer for rework approval or repair instructions.

You may examine the MCAI in the AD docket on the Internet at http://www.regulations.gov by searching for and locating Docket No. FAA-2015-0242.

Related Service Information Under 1 CFR Part 51

Airbus has issued Service Bulletin A300-53-6173, Revision 01, dated February 28, 2014. The service information describes procedures for a one-time detailed of the area surrounding the forward passenger/crew door and the fail safe ring to determine if any repairs have been done, and corrective actions. The actions described in this service information are intended to correct the unsafe condition identified in the MCAI. This service information is reasonably available; see ADDRESSES for ways to access this service information.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Explanation of “RC” Procedures and Tests in Service Information

The FAA worked in conjunction with industry, under the Airworthiness Directives Implementation Aviation Rulemaking Committee (AD ARC), to enhance the AD system. One enhancement was a new process for annotating which procedures and tests in the service information are required for compliance with an AD. Differentiating these procedures and tests from other tasks in the service information is expected to improve an owner's/operator's understanding of crucial AD requirements and help provide consistent judgment in AD compliance. The actions specified in the service information identified previously include procedures and tests that are identified as RC (required for compliance) because these procedures have a direct effect on detecting, preventing, resolving, or eliminating an identified unsafe condition.

As specified in a Note under the Accomplishment Instructions of the specified service information, procedures and tests identified as RC must be done to comply with the proposed AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in a serviceable condition. Any substitutions or changes to procedures or tests identified as RC will require approval of an AMOC.

Costs of Compliance

We estimate that this proposed AD affects 65 airplanes of U.S. registry.

We also estimate that it would take about 120 work-hours per product to comply with the basic requirements of this proposed AD. The average labor rate is $85 per work-hour. Based on these figures, we estimate the cost of this proposed AD on U.S. operators to be $663,000, or $10,200 per product.

In addition, we estimate that any necessary follow-on actions would take up to 730 work-hours and require parts costing up to $72,250, for a cost of up to $134,300 per product, depending on configuration. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-0242; Directorate Identifier 2014-NM-100-AD.

(a) Comments Due Date

We must receive comments by April 6, 2015.

(b) Affected ADs

None.

(c) Applicability

This AD applies to the Airbus airplanes identified in paragraphs (c)(1), (c)(2), and (c)(3) of this AD, certificated in any category.

(1) Model A300 B4-603, B4-605R, B4-620, B4-622, and B4-622R airplanes, all manufacturer serial numbers.

(2) Model A300 C4-605R Variant F airplanes, all manufacturer serial numbers.

(3) Model A300F4-605R airplanes, all manufacturer serial numbers, except those on which Airbus Modification 12699 was embodied in production.

(d) Subject

Air Transport Association (ATA) of America Code 53, Fuselage.

(e) Reason

This AD was prompted by the manufacturer's review of all repairs accomplished using the structural repair manual. This review was done using revised fatigue and damage tolerance calculations. We are issuing this AD to detect and correct previous incomplete or inadequate repairs to the surrounding panels of the left and right forward passenger doors and the fail-safe ring, which could negatively affect the structural integrity of the airplane.

(f) Compliance

Comply with this AD within the compliance times specified, unless already done.

(g) Inspection

At the time specified in paragraph (g)(1) or (g)(2) of this AD, whichever is later: Do a detailed inspection of the surrounding panels of the left and right forward passenger doors to determine if any repairs have been done, in accordance with the Accomplishment Instructions of Airbus Service Bulletin A300-53-6173, Revision 01, dated February 28, 2014.

(1) Prior to the accumulation of 30,000 total flight cycles or 67,500 total flight hours, whichever occurs first.

(2) Within 28 months after the effective date of this AD.

(h) Identification of Repairs

If any affected repair is found during the inspection required by paragraph (g) of this AD: Before further flight, identify the reworked area(s), the percentage of the rework, and the limits of the rework, in accordance with the Accomplishment Instructions of Airbus Service Bulletin A300-53-6173, Revision 01, dated February 28, 2014.

(i) Corrective Actions

During the repair identification required by paragraph (h) of this AD, if any rework is found that is outside the allowable damage limits specified in Airbus Service Bulletin A300-53-6173, Revision 01, dated February 28, 2014: Before further flight, rework or repair, as applicable, using a method approved by the Manager, International Branch, ANM-116, Transport Airplane Directorate, FAA; the European Aviation Safety Agency (EASA); or Airbus's EASA Design Organization Approval (DOA).

(j) Exception to Service Information Specifications

Although Airbus Service Bulletin A300-53-6173, Revision 01, dated February 28, 2014, specifies to contact Airbus for repair instructions, and specifies that action as “RC” (Required for Compliance), this AD requires repair before further flight using a method approved by the Manager, International Branch, ANM-116, Transport Airplane Directorate, FAA; EASA; or Airbus's EASA DOA.

(k) Credit for Previous Actions

This paragraph provides credit for the actions required by paragraphs (g) and (h) of this AD, if those actions were performed before the effective date of this AD using Airbus Service Bulletin A300-53-6173, dated August 1, 2013, which is not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Required for Compliance (RC): Except as required by paragraph (j) of this AD, if the service information contains procedures or tests that are identified as RC, those procedures and tests must be done to comply with this AD; any procedures and tests that are not identified as RC are recommended. Those procedures and tests that are not identified as RC may be deviated from using accepted methods in accordance with the operator's maintenance or inspection program without obtaining approval of an AMOC, provided the procedures and tests identified as RC can be done and the airplane can be put back in a serviceable condition. Any substitutions or changes to procedures or tests identified as RC require approval of an AMOC.

(3) Contacting the Manufacturer: For any requirement in this AD to obtain corrective actions from a manufacturer, the action must be accomplished using a method approved by the Manager, International Branch, ANM-116, Transport Airplane Directorate, FAA; the EASA; or Airbus's EASA DOA. If approved by the DOA, the approval must include the DOA-authorized signature.

(m) Related Information

(1) Refer to Mandatory Continuing Airworthiness Information (MCAI) EASA Airworthiness Directive 2014-0101, dated May 2, 2014, for related information. This MCAI may be found in the AD docket on the Internet at http://www.regulations.gov by searching for and locating Docket No. FAA-2015-0242.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on February 2, 2015.
Dionne Palermo,
Acting Manager, Transport Airplane Directorate, Aircraft Certification Service.

[FR Doc. 2015-02920 Filed 2-17-15; 8:45 am]

BILLING CODE 4910-13-P